POSTAL SERVICE

39 CFR Part 20

International Service Changes—Bonaire, Sint Eustatius, and Saba, Curaçao, Netherlands Antilles

AGENCY: Postal Service™.

ACTION: Final rule.

SUMMARY: At the request of the designated operator for Bonaire, Sint Eustatius, and Saba, the Postal Service is adding this country to Mailing Standards of the United States Postal Service, International Mail Manual (IMM®), to reflect these islands' status as special municipalities of the Netherlands with their own designated operator.

DATES: Effective date: January 17, 2016.

FOR FURTHER INFORMATION CONTACT: Paula Rabkin at 202-268-2537.

SUPPLEMENTARY INFORMATION: The United States Postal Service® gives notice that on October 22, 2015, the Postal Service filed with the Postal Regulatory Commission a notice of a minor classification change to add Bonaire, Sint Eustatius, and Saba to the Mail Classification Schedule (MCS). The Commission concurred with the notice in its Order No. 2808, issued on November 9, 2015. Documents are available at www.prc.gov, Docket No. MC2016-10. Consequently, the Postal Service will revise IMM sections 213.5, 292.45, 293.45, the Index of Countries and Localities, the Country Price Groups and Weight Limits, and the Individual Country Listings, to add a new listing for Bonaire, Sint Eustatius, and Saba and to modify Curaçao's listing.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

Mailing Standards of the United States Postal Service, International Mail Manual (IMM)

* * * * *

2 Conditions for Mailing

210 Global Express Guaranteed

* * * * *

213 Prices and Postage Payment Methods

* * * * *

213.5 Destinating Countries and Price Groups

* * * * *

Exhibit 213.5

Destinating Countries and Price Groups

* * * * *

[Add a listing for Bonaire, Sint Eustatius, and Saba to read as follows:]

Country | GXG Price group
* * * * *
Bonaire, Sint Eustatius, and Saba | 7
* * * * *

* * * * *

290 Commercial Services

* * * * *

292 International Priority Airmail (IPA) Service

* * * * *

292.4 Mail Preparation

* * * * *

292.45 IPA Foreign Office of Exchange Codes and Price Groups

* * * * *

Exhibit 292.45a

IPA Foreign Office of Exchange Codes and Price Groups

[Add a separate listing for Bonaire, Sint Eustatius, and Saba and remove Bonaire, Saba, and Sint Eustatius from Curaçao's listing as follows:].

Country labeling name | Foreign office of exchange code | Price group
* * * * * * *
Bonaire, Sint Eustatius, and Saba | BON | 17
* * * * * * *
Curaçao | CUR | 17
* * * * * * *

293 International Surface Air Lift (ISAL) Service

* * * * *

293.4 Mail Preparation

* * * * *

293.45 ISAL Foreign Office of Exchange Codes and Price Groups

* * * * *

Exhibit 293.45a

ISAL Foreign Office of Exchange Codes and Price Groups

[Add a separate listing for Bonaire, Sint Eustatius, and Saba and remove Bonaire, Saba, and Sint Eustatius from Curaçao's listing as follows:]

Country labeling name | Foreign office of exchange code | Price group
* * * * * * *
Bonaire, Sint Eustatius, and Saba | BON | 17
* * * * * * *
Curaçao | CUR | 17
* * * * * * *

* * * * *

Index of Countries and Localities

* * * * *

[Revise the listing for Bonaire as follows:]

Bonaire (Bonaire, Sint Eustatius, and Saba)

* * * * *

[Revise the listing for Curaçao as follows:]

Curaçao

* * * * *

[Delete the listings for “Netherlands Antilles (Curaçao)” and “Netherlands Antilles (Sint Maarten)”]

* * * * *

[Revise the listing for Saba as follows:]

Saba (Bonaire, Sint Eustatius, and Saba)

* * * * *

[Revise the listing for Sint Eustatius as follows:]

Sint Eustatius (Bonaire, Sint Eustatius, and Saba)

* * * * *

Country Price Groups and Weight Limits

[Add a new listing for Bonaire, Sint Eustatius, and Saba as follows:]

Country | Global express guaranteed: Price group | Max. Wt. (lbs.) | Priority mail express international: Price group | Priority mail express international: Max. Wt. (lbs.) | Priority mail express international: PMEI flat rate envelopes price group ¹ | Priority mail international: Price group | Priority mail international: Max. Wt. (lbs.) | Priority mail international: PMI flat rate envelopes and boxes price group ² | First-class mail international and first-class package international service: Price group | First-class mail international and first-class package international service: Max. Wt. (ozs./lbs.) ³
* * * * * * *
Bonaire, Sint Eustatius, and Saba | 7 | 70 | 9 | 66 | 8 | 9 | 44 | 8 | 9 | 3.5/4
* * * * * * *

* * * * *

Individual Country Listings

* * * * *

[Add a new individual country listing for Bonaire, Sint Eustatius, and Saba, which is identical to the current listing for Curaçao, except for the following differences:]

Bonaire, Sint Eustatius, and Saba

Country Conditions for Mailing

* * * * *

Priority Mail Express International

* * * * *

Customs Forms Required (123)

* * * * *

[Revise the Note as follows:]

Note: Coins; banknotes; currency notes, including paper money; securities of any kind payable to bearer; traveler's checks; platinum, gold, and silver; precious stones; jewelry; watches; and other valuable articles are prohibited in Priority Mail Express International shipments to Bonaire, Sint Eustatius, and Saba.

* * * * *

[Change the country code as follows:]

Country Code: BQ

[Change the area served as follows:]

Area Served:

All

* * * * *

[Revise the heading for Curaçao's Individual Country Listing to read:]

Curaçao

Country Conditions for Mailing

* * * * *

Priority Mail Express International

* * * * *

[Change the area served as follows:]

Area Served:

All

* * * * *

We will publish an appropriate amendment to 39 CFR part 20 to reflect these changes.

Stanley F. Mires,
Attorney, Federal Compliance.

[FR Doc. 2015-29720 Filed 11-20-15; 8:45 am]

BILLING CODE 7710-12-P